DEPARTMENT OF ENERGY

[OE Docket No. EA-482]

Application To Export Electric Energy; DMG Blockchain Solutions Inc.

AGENCY: Office of Electricity, Department of Energy.

ACTION: Notice of application.

SUMMARY: DMG Blockchain Solutions Inc. (Applicant or DMG) has applied for authorization to transmit electric energy from the United States to Canada pursuant to the Federal Power Act.

DATES: Comments, protests, or motions to intervene must be submitted on or before June 29, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On May 21, 2020, DMG filed an application with DOE (Application or App.) to transmit electric energy from the United States to Canada for a term of five years. DMG states that it “is a British Columbia corporation with its office and principal place of business in Vancouver, British Columbia, Canada” and that it “has a US subsidiary in Sunnyvale, California.” App. at 1. DMG adds that it “does not own, operate or control any electric generation assets, not is it affiliates with any entity that owns generation assets in the United States,” and that “[n]either DMG nor any of its affiliates holds a franchise or service territory for the transmission, distribution or sale of electric power.” Id. at 2.

DMG further states that it “will purchase power to be exported from electric utilities, federal power marketing agencies, qualifying cogeneration, small power production facilities and exempt wholesale generators as those terms defined in the FPA.” App. at 3. DMG contends that its proposed exports will not impair the sufficiency of electric supply within the United States and will neither impede nor tend to impede the operational reliability of the bulk power system. See id.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning DMG's application to export electric energy to Canada should be clearly marked with OE Docket No. EA-482. Additional copies are to be provided directly to Sheldon Bennet, 1090 Homer Street, Suite 490, Vancouver, British Columbia, V6B 2W9, Canada; sheldon@dmgblockchain.com.

A final decision will be made on this Application after the environmental impacts have been evaluated pursuant to DOE's National Environmental Policy Act Implementing Procedures (10 CFR part 1021) and after DOE determines that the proposed action will not have an adverse impact on the sufficiency of supply or reliability of the U.S. electric power supply system.

Copies of this Application will be made available, upon request, by accessing the program website at http://energy.gov/node/11845, or by emailing Matthew Aronoff at matthew.aronoff@hq.doe.gov.

Signed in Washington, DC, on May 26, 2020.
Christopher Lawrence,
Management and Program Analyst, Transmission Permitting and Technical Assistance, Office of Electricity.

[FR Doc. 2020-11601 Filed 5-28-20; 8:45 am]

BILLING CODE 6450-01-P